NATIONAL ARCHIVES AND RECORDS ADMINISTRATION

36 CFR Part 1234

RIN 3095-AA94

Elimination of Requirement to Rewind Computer Tapes

AGENCY: National Archives and Records Administration (NARA).

ACTION: Final rule.

SUMMARY: NARA is revising its regulations to eliminate the requirement that Federal agencies rewind under controlled tension all computer tapes containing unscheduled or permanent records every 3\1/2\ years. This change will affect Federal agencies that store unscheduled or permanent records on computer open-reel tapes or tape cartridges.

DATES: Effective May 25, 2000.

FOR FURTHER INFORMATION CONTACT: Nancy Allard or Shawn Morton at (301) 713-7360.

SUPPLEMENTARY INFORMATION: This rule was published as a proposed rule for comment in the Federal Register on February 3, 2000 (65 FR 5295). NARA received 6 comments on the proposed rule, all supporting the change. Four comments were from Federal agencies and two comments were from private individuals.

This rule is not a significant regulatory action for the purposes of Executive Order 12866. As required by the Regulatory Flexibility Act, it is hereby certified that this rule will not have a significant impact on a substantial number of small entities because it applies to Federal agencies. This rule does not have any federalism implications.

List of Subjects in 36 CFR Part 1234

Archives and records, Computer technology.

For the reasons stated in the preamble, the National Archives and Records Administration is amending 36 CFR Part 1234 to read as follows:

PART 1234—ELECTRONIC RECORDS MANAGEMENT

Subpart C—Standards for the Creation, Use, Preservation, and Disposition of Electronic Records

1. The authority citation for part 1234 continues to read as follows:

Authority: 44 U.S.C. 2904, 3101, 3102, and 3105.

§ 1234.30 [Amended]

2. In § 1234.30, remove paragraph (g)(3) and redesignate paragraphs (g)(4) through (g)(7) as paragraphs (g)(3) through (g)(6) respectively.

Dated: April 19, 2000.
John W. Carlin,
Archivist of the United States.

[FR Doc. 00-10249 Filed 4-25-00; 8:45 am]

BILLING CODE 7515-01-P